DEPARTMENT OF ENERGY

Federal Energy Regulatory Commission

[Docket No. OR13-32-000]

Dominion NGL Pipelines, LLC; Notice of Petition for Declaratory Order

Take notice that on August 21, 2013, pursuant to Rule 207 of the Commission's Rules of Practices and Procedure, 18 CFR 385.207, Dominion NGL Pipelines, LLC filed a petition requesting a declaratory order approving, (1) the general rate structure for its new ethane pipeline (Natrium Ethane Pipeline) extending from a new natural gas processing and fractionation plant operating in Marshall County, West Virginia, to an interconnection near Follansbee, West Virginia with Enterprise Products Partners, L.P.'s Appalachia to Texas Express (ATEX) pipeline; (2) the rate and terms agreed upon by Dominion NGL with a shipper that has made a long-term commitment to utilize, or pay for, significant capacity on the Natrium Ethane Pipeline (Committed Shipper); and (3) the rate design utilizing revenue crediting to establish rates for “uncommitted shippers”.

Any person desiring to intervene or to protest in this proceedings must file in accordance with Rules 211 and 214 of the Commission's Rules of Practice and Procedure (18 CFR 385.211 and 385.214) on or before 5:00 p.m. Eastern time on the specified comment date. Protests will be considered by the Commission in determining the appropriate action to be taken, but will not serve to make protestants parties to the proceeding. Anyone filing a motion to intervene or protest must serve a copy of that document on the Petitioner.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 5 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed docket(s). For assistance with any FERC Online service, please email FERCOnlineSupport@ferc.gov. or call (866) 208-3676 (toll free). For TTY, call (202) 502-8659.

Comment Date: 5:00 p.m. Eastern time on September 23, 2013.

Dated: August 22, 2013.
Kimberly D. Bose,
Secretary.

[FR Doc. 2013-21207 Filed 8-29-13; 8:45 am]

BILLING CODE 6717-01-P